DEPARTMENT OF THE TREASURY

Office of Thrift Supervision

[AC-1: OTS Nos. H-3697 and 14379]

BUCS Financial Corp., Owings Mills, Maryland; Approval of Conversion Application

Notice is hereby given that on January 12, 2001, the Director, Examination Policy, Office of Thrift Supervision, or his designee, acting pursuant to delegated authority, approved the application of BUCS Federal Bank, Owings Mills, Maryland, convert to the stock form of organization. Copies of the application are available for inspection at the Dissemination Branch, Office of Thrift Supervision, 1700 G Street, NW, Washington, DC 20552, and the Southeast Regional Office, Office of Thrift Supervision, 1475 Peachtree Street, NE., Atlanta, GA 30309.

Dated: January 12, 2001.
By the Office of Thrift Supervision.
Nadine Y. Washington,
Corporate Secretary.

[FR Doc. 01-1577 Filed 1-19-01; 8:45 am]

BILLING CODE 6720-01-M